DEPARTMENT OF TRANSPORTATION

Federal Aviation Administration

[Docket No. FAA-2023-1480]

Agency Information Collection Activities: Requests for Comments; Clearance of Continued Approval of Information Collection: Limited Recreational Unmanned Aircraft Operation Applications

AGENCY: Federal Aviation Administration (FAA), DOT.

ACTION: Notice and request for comments.

SUMMARY: In accordance with the Paperwork Reduction Act of 1995, FAA invites public comments about our intention to request Office of Management and Budget (OMB) approval to renew an information collection. The Federal Register Notice with a 60-day comment period soliciting comments on the following collection of information was published on August 7, 2023. The collection involves information related to recreational flying under the Exception for Limited Recreational Operations of Unmanned Aircraft. The information collected will be used to recognize Community Based Organizations (CBOs), administer an aeronautical knowledge and safety test, establish fixed flying sites, approve standards and limitations for Unmanned Aircraft Systems (UAS) weighing more than 55 pounds, and designate FAA Recognized Identification Areas (FRIAs).

DATES: Written comments should be submitted by March 13, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Alvin A. Brunner by email at: alvin.a.brunner@faa.gov; phone: (405) 666-1024.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0794.

Title: Limited Recreational Unmanned Aircraft Operation Applications.

Form Numbers: Online collection.

Type of Review: Renewal.

Background: The Federal Register Notice with a 60-day comment period soliciting comments on the following collection of information was published on August 7, 2023 (88 FR 52240). In 2018, Congress passed the FAA Reauthorization Act of 2018 (Pub. L. 115-254). Section 44809 of Public Law 115-254 allows a person to operate a small unmanned aircraft (UA) without specific certification or operating authority from the FAA if the operation adheres to certain limitations. These limitations require the FAA to recognize community-based organizations (CBOs), develop and administer an aeronautical knowledge and safety test, establish fixed flying sites, approve standards and limitations for unmanned aircraft weighing more than 55 pounds, and designate FAA Recognized Identification Areas (FRIAs).

The information will be collected online, primarily through the FAA's DroneZone website. The information collected will be limited to only that necessary for the FAA to complete a review of an application under the following statutory requirements:

• Section 44809(c)(1), Operations at Fixed Sites

• Section 44809(c)(2)(a), Standards and Limitations—UA Weighing More Than 55 Pounds

• Section 44809(c)(2)(b), Operations at Fixed Sites—UA Weighing More Than 55 Pounds

• Section 44809(g)(1), Aeronautical Knowledge and Safety Test

• Section 44809(i), Recognition of Community-Based Organizations

Respondents: The FAA estimates that there will be approximately 1,143 respondents per year. Respondents comprise individuals and organizations operating under the Exception for Limited Recreational Operations of Unmanned Aircraft who wish to be recognized as CBOs, administer the aeronautical knowledge and safety test, establish fixed flying sites, have standards and limitations for unmanned aircraft weighing more than 55 pounds approved, and establish designated FRIAs.

Frequency: On occasion.

Estimated Average Burden per Response: Varies depending on the type of stakeholder application. Fixed flying site applications (including more than 55 pound UAS and FRIA) are estimated to take 0.5 hours per applicant. CBO recognition and more than 55 pound UAS standards and limitations applications are estimated to take 1.0 hours per applicant.

Estimated Total Annual Burden: 1,218 hours.

Issued in Washington, DC, on February 7, 2024.
D.C. Morris,
Aviation Safety Analyst, Flight Standards Service, General Aviation and Commercial Division.

[FR Doc. 2024-02833 Filed 2-9-24; 8:45 am]

BILLING CODE 4910-13-P